DEPARTMENT OF ENERGY

[Docket Nos. EE-RM/TP-99-450 and EE-RM/TP-05-500]

RINs 1904-AA96 and 1904-AB53

Proposed Information Collection; Comment Request; Certification, Compliance, and Enforcement Requirements for Consumer Products and Certain Commercial and Industrial Equipment

AGENCY: Office of Energy Efficiency and Renewable Energy, Department of Energy.

ACTION: Notice.

SUMMARY: The U.S. Department of Energy (DOE), as part of its continuing effort to reduce paperwork and respondent burden, invites the general public and other Federal agencies to take this opportunity to comment on the proposed information collection described in this notice, as required by the Paperwork Reduction Act of 1995.

DATES: Written comments must be submitted on or before March 8, 2010.

ADDRESSES: Direct all written comments to Ever Crutchfield or Christina Rouleau, Information Management (IM-23), U.S. Department of Energy, Room 4002/4003, 19901 Germantown Rd., Germantown, MD 20874 (or via the Internet at Ever.Crutchfield@hq.doe.gov or Christina.Rouleau@hq.doe.gov).

FOR FURTHER INFORMATION CONTACT: Requests for additional information or copies of the information collection instrument and instructions should be directed to Michael McCabe, (202) 586-9155 or Michael.McCabe@ee.doe.gov.

SUPPLEMENTARY INFORMATION:

I. Abstract

The Energy Policy and Conservation Act (EPCA) establishes energy and water conservation standards and test procedures for consumer products and certain commercial and industrial equipment. The Energy Policy Act of 1992 (EPACT 1992) and the Energy Policy Act of 2005 (EPACT 2005) amended EPCA and included new standards and test procedures for additional consumer products and commercial and industrial equipment. DOE is developing regulations to implement reporting requirements for energy conservation standards and energy use reporting, and to address other matters including compliance certification, prohibited actions, and enforcement procedures for the commercial and industrial equipment covered by EPACT 2005, as well as the commercial heating, air-conditioning, and water heating equipment covered under EPACT 1992. DOE is also developing provisions for manufacturer certification for distribution transformers. See 64 FR 69598 (December 13, 1999); 71 FR 25103 (April 28, 2006); and 71 FR 42178 (July 25, 2006).

The information that would be required by these regulations, if finalized, and that is the subject of this proposed collection of information, would be submitted by manufacturers to certify compliance with energy and water efficiency standards established by DOE. DOE would also use the information to determine whether an enforcement action is warranted.

II. Method of Collection

Respondents have a choice of either electronic or paper forms. Methods of submittal include e-mail of electronic forms, and mail and facsimile transmission of paper forms.

III. Data

OMB Control Number: To be determined.

Form Number: None.

Type of Review: Regular submission.

Affected Public: Manufacturers of consumer products and commercial and industrial equipment covered by the rulemakings discussed above.

Estimated Number of Respondents: 204.

Estimated Time per Response: Certification reports and compliance statements, 16 hours.

Estimated Total Annual Burden Hours: 3,264.00.

Estimated Total Annual Cost to Public: $244,800.00 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Issued in Washington, DC, on December 3, 2009.
Cathy Zoi,
Assistant Secretary, Energy Efficiency and Renewable Energy.

[FR Doc. E9-30886 Filed 1-4-10; 8:45 am]

BILLING CODE 6450-01-P